DEPARTMENT OF THE INTERIOR

Bureau of Land Management

[LLCOS00000 L12200000.XX0000 234]

Notice of Southwest District Colorado Resource Advisory Council Sheep Grazing Subcommittee Meetings

AGENCY: Bureau of Land Management, Interior.

ACTION: Notice of public meetings.

SUMMARY: In accordance with the Federal Land Policy and Management Act of 1976 and the Federal Advisory Committee Act of 1972, the Bureau of Land Management's (BLM's) Southwest District Colorado Resource Advisory Council (RAC) on September 8, 2022, voted to create a subcommittee to analyze domestic sheep grazing in bighorn sheep habitat on BLM-managed high alpine allotments outside of Silverton, Colorado. The Sheep Grazing Subcommittee will hold the following meetings.

DATES: The Sheep-Grazing Subcommittee will hold a total of six in-person meetings at the Uncompahgre Field Office on March 14, April 5, May 9, June 13, July 18, and August 15, 2023. All meetings will be held from 10 a.m. to 2 p.m. Virtual participation options will also be available.

ADDRESSES: The Uncompahgre Field Office is located at 2465 S Townsend Ave., Montrose, CO 81401.

FOR FURTHER INFORMATION CONTACT: Elizabeth A. Dawson, Deputy District Manager, BLM Southwest District Office, 2465 S. Townsend Ave., Montrose, CO 81401; email: edawson@blm.gov, telephone: (970) 240-5430. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Southwest District Colorado RAC voted to create a subcommittee to compile information, conduct research, and report their recommendations on sheep grazing to the full RAC for consideration. The BLM Southwest District has analyzed the effects of domestic sheep and goat grazing in domestic sheep grazing allotments on BLM-managed public land. The purpose of the Subcommittee is to review the BLM's analysis, policies, and best management practices and provide recommendations to the RAC on how best to advise the Southwest District regarding its domestic sheep grazing permit renewals. The Subcommittee will look at options to reduce the risk of contact and disease transmission between Rocky Mountain bighorn sheep and domestic sheep on the high-alpine allotments near Silverton, Colorado.

These meetings are open to the public and will adhere to applicable Centers for Disease Control and Prevention protocols regarding COVID-19. A public comment period will be held at each meeting from 12:45 p.m. to 1:15 p.m. Contingent on the number of people who wish to comment during the public comment period, individual comments may be limited. The public may present written comments to the Subcommittee prior to the meetings at the address listed in the ADDRESSES section of this notice. Please include “Subcommittee Comment” in your submission. Before including your address, phone number, email address, or other personal identifying information in your comment, you should be aware that your entire comment—including your personal identifying information—may be made publicly available at any time. While you can ask us in your comment to withhold your personal identifying information from public review, we cannot guarantee that we will be able to do so.

Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Summary minutes for the Subcommittee meetings will be maintained in the Southwest District Office and will be available for public inspection and reproduction during regular business hours within 30 days following the meeting (see FOR FURTHER INFORMATION CONTACT). Previous minutes and agendas are available at: https://www.blm.gov/get-involved/resource-advisory-council/near-you/colorado/southwest-rac.

(Authority: 43 CFR 1784.4-2)

Douglas Vilsack,
BLM Colorado State Director.

[FR Doc. 2023-02895 Filed 2-9-23; 8:45 am]

BILLING CODE 4310-JB-P